DEPARTMENT OF TRANSPORTATION

Federal Transit Administration

National Technical Assistance Center for Senior Transportation; Solicitation for Proposals

AGENCY: Federal Transit Administration, DOT.

ACTION: Notice; request for proposals.

SUMMARY: This solicitation is for proposals from national non-profit organizations for a cooperative agreement to develop and implement a National Technical Assistance Center for Senior Transportation (NTACST). The major goal of the NTACST is to assist local communities and states in the expansion and provision of transportation services for older adults. This cooperative agreement is a five year award. The first year of the cooperative agreement is for two million dollars ($2,000,000). Subsequent funding is authorized at one million dollars ($1,000,000 per year) in the Safe, Accountable, Flexible, and Efficient Transportation Equity Act—A Legacy for Users (SAFETEAU-LU); actual funding will be based on annual appropriations.

DATES: Proposals must be submitted electronically by December 22, 2005.

ADDRESSES: Proposals should be submitted electronically to http://www.Grants.Gov. Grants.Gov allows organizations to electronically find and apply for competitive grant opportunities from all Federal grant-making agencies. Grants.Gov is the single access point for over 1,000 grant programs offered by the 26 Federal grant-making agencies. Proposals can also be submitted in hard copy to United We Ride Office, 400 7th Street, SW., Room 9114, Washington, DC 20590.

DATES: All proposals must be postmarked by midnight December 22, 2005.

FOR FURTHER INFORMATION CONTACT: Bryna Helfer at (202) 366-1663; fax: (202) 366-3136; unitedweride@fta.dot.gov.

SUPPLEMENTARY INFORMATION: Section 3016 of the Safe, Accountable, Flexible, and Efficient Transportation Equity Act—A Legacy for Users (SAFETEA-LU); PL 109-059, authorized a National Technical Assistance Center for Senior Transportation (NTACST) is under 49 U.S.C. 5314(c) as follows:

(1) Establishment. The Secretary shall award a cooperative agreement grant to a national not-for-profit organization for the establishment and maintenance of a NTACST.

(2) Eligibility.An organization shall be eligible for a cooperative agreement under paragraph (1) if the organization: (A) Focuses significantly on serving the needs of the elderly; (B) has demonstrated knowledge and expertise in senior transportation policy and planning issues; (C) has affiliates in a majority of the states; (D) has the capacity to convene local groups to consult on operation and development of senior transportation programs; and (E) has established close working relationships with the Federal Transit Administration (FTA) and the Administration on Aging (AoA).

(3) Use of Funds. The NTACST established under this section shall: (A) Gather best practices from throughout the nation and provide such practices to local communities that are implementing senior transportation programs; (B) work with teams from local communities to identify how the communities are successfully meeting the transportation needs of senior citizens and identifying any gaps in services in order to create a plan for an integrated senior transportation program; (C) provide resources on ways to pay for senior transportation services; (D) create a Web site to publicize and circulate information on senior transportation program; (E) establish a clearinghouse for print, video, and audio resources on senior mobility; and (F) administer the demonstration grant program established under paragraph (4).

(4) Grants Authorized. (A) In General.—The NTACST established under this section, in consultation with the Federal Transit Administration, should award senior transportation demonstration grants to: (i) Local transportation organizations, (ii) state agencies, (iii) units of local government, and (iv) nonprofit organizations. (B) Use of Funds.—Grant funds received under this paragraph may be used to: (i) Evaluate the state of transportation services for senior citizens, (ii) recognize barriers to mobility that senior citizens encounter in their communities, (iii) establish partnerships and promote coordination among community stakeholders, including public, not-for-profit, and for-profit providers of transportation services for senior citizens, (iv) identify future transportation needs of senior citizens within local communities, and (v) establish strategies to meet the unique needs of healthy and frail senior citizens.

I. Funding Opportunity Description

The purpose of this cooperative agreement is to develop and implement a National Technical Assistance Center for Senior Transportation (NTACST). The major goal of the NTACST is to assist local communities and states in the expansion and provision of transportation services for older adults. To accomplish this goal, a series of steps is required, so this request for proposals is structured around a four-step process to:

• Perform a detailed needs assessment to uncover the most pressing areas that communities require for older adult transportation technical assistance;

• Develop a plan for the NTACST that includes staff, resources and information technology infrastructure;

• Implement the NTACST;

• Evaluate, improve and enhance the quality of services provided by the NTACST.

The NTACST will utilize the framework for coherent systems management, used by Aging and Disability Resource Centers (the access component) and the Centers for Medicare and Medicaid Real Choice Systems Change Grants.

These components provide a framework to build a needs assessment and technical assistance program for older adult transportation services.

The NTACST will follow a number of strategies in its development, especially coordination, empowerment, knowledge management and person-centered technical assistance. The NTACST will coordinate with other technical assistance initiatives related to senior mobility and human service transportation to ensure a coordinated approach in this area. In addition, all efforts of the NTACST should ensure consumer input and involvement such that all technical assistance has a person centered, self-determination and independence focus. NTACST personnel will engage early and often with technical assistance recipients to ensure knowledge is transferred and relationships are developed. This information and referral system is meant to be a key focal point to disseminate models, best practices and develop successful demonstration sites for innovations in older adult transportation services and systems. This project will entail creative, engaging and collaborative public and private partnerships at all levels—local, tribal, state and Federal.

Background

The forecasted increase in older adult population concentrations in many states underscores the need for more transportation services as communities strive to find ways to help older persons stay healthy, connected to the community and able to age in place. The latest information on key demographic highlights ¹ show:

¹ Principle sources of data for the Profile are the U.S. Bureau of the Census, the National Technical assistance center on Health Statistics, and the Bureau of Labor Statistics. The highlights incorporate the latest data available as of 12/03 but not all items are updated on an annual basis.

• The older population (65+) numbered 35.6 million in 2002, an increase of 3.3 million or 10.2 percent since 1992 and, by the year 2030, the older population will more than double to 71.5 million.

• The number of Americans aged 45-64 who will reach 65 over the next two decades increased by 38 percent during this decade.

• Older adults may face income difficulties with median incomes of older persons in 2002 of $19,436 for males and $11,406 for females.

• The key to aging in place is retaining independence and adapting in the face of growing chronic illness. Health status is generally expected to improve, but many older adults will experience one or more disability. In the future, older adults will generally be in better health than their counterparts today, due in large part to better health practices throughout their lives (National Academy on aging, 1994).

• There is an accelerating trend of decreasing disability rates, and the functional limitations that do exist have become less severe. But, increases in life expectancy will create a dramatic increase in the number of older adults with disabilities. Conservative projections estimate a 68 percent increase in the number of older adults with disabilities between 1990 and 2020.

• In 2000, 73 percent of individuals 65 years of age and older lived in suburban and rural areas.²

² Ibid.

Thus, the need for mobility assistance to enable independence, especially public transportation services, increases with age and disability level. Many older adults prefer to age in place, despite mobility challenges. The car has made suburban and rural living practical, and contributed to a decline in public transportation and walking (Transportation Research Board, 2004). Mobility will be a significant challenge for this dispersed older population. Therefore, demand for transportation services is expected to skyrocket with the above noted demographic trends. These facts underscore the need for immediate attention to infrastructure and service investments for older adults and individuals with disabilities.

In recognition of the fundamental importance of senior mobility and human service transportation and the continuing need to enhance coordination, President Bush issued an Executive Order on Human Service Transportation Coordination (EO) directing multiple Federal departments and agencies to work together to ensure that transportation services are seamless, comprehensive and accessible.³ Secretaries from the Departments of Transportation, Health and Human Services, Labor, Education, Interior, Housing and Urban Development, Agriculture, Veterans Affairs, the Commissioner of the Social Security Administration, the Attorney General and the Chairperson of the National Council on Disability are members of the new interagency Coordinating Council on Access and Mobility (CCAM).

³ Executive Order 13330, “Human Service Transportation Coordination”; 69FRZ80, February 24, 2004.

Specifically, the CCAM is tasked with seeking ways to simplify access to transportation services for persons with disabilities, persons with lower incomes, and older adults. The EO requires that CCAM members work together to provide the most appropriate, cost effective services within existing resources, and reduce duplication to make funds available for more services. To meet the requirements of the EO, the CCAM has developed a comprehensive action plan and launched United We Ride (UWR), a national initiative on human service transportation coordination, which includes senior mobility. The NTACST will be directly linked with UWR and related to technical assistance initiatives in the area of older adult mobility and human service transportation coordination. FTA will be collaborating with other members of CCAM on the implementation of the EO and therefore, the technical assistance provided under this solicitation will seek to complement and optimize, not duplicate the technical assistance and related work funded in this area by other CCAM partners.

FTA, in partnership with AoA, will provide technical assistance through a cooperative agreement to the Aging Services network, consumers, and transportation providers (public and private) engaged in older adult mobility and human services transportation for older adults. Older adult mobility and human service transportation is defined as a network of services included but not limited to driving modification and transition; pedestrian access; public transportation; paratransit (curb to curb, door to door, door through door); taxi service; and volunteer services. Technical assistance is a process that enables a goal focused, strategy oriented, accountable organization to transfer knowledge to clients for the purpose of their growth, change, and improvement. Technical assistance is intended to provide extensive information and assistance to facilitate adoption or application of research-based or practice-based products, policies, or knowledge in order to improve the provision of services for target populations. Technical assistance may include information dissemination, training, and enhancing capacity for building more efficient transportation services at the local and state levels. A primary goal of the technical assistance offered by the NTACST is to facilitate the expansion of transportation services and options for older persons in their local communities. A key strategy to accomplish this expansion of service is coordination of transportation programs and initiatives. The following areas will be key areas of focus for the NTACST activities:

Needs Assessments and Assistance Plans. The NTACST will conduct a comprehensive assessment of technical assistance needs in the area of senior mobility in year one. Based on this information, the NTACST will formulate a plan in coordination with FTA and AoA for conducting technical assistance in future years of funding. When conducting technical assistance, sites will have individual technical assistance plans that outline the specific need, intended outcome, plan for assistance, and evaluation components. Technical assistance will be provided via e-mail, phone, and on-site strategies, using the following principles:

Peer-to-Peer Learning: Assistance will be provided in locating, planning, and facilitating access to peer-based information, experience, and advice. Facilitation may include having the grantee pay travel and expenses for peer assistance.

Expert Knowledge: Assistance will be provided in accessing and developing the best research evidence and program information available into effective program demonstrations.

Communities of Practice: The grantee will establish communities of practice: groups of people who share a concern for what they do and learn how to do it better as they interact regularly. Communities of practice can involve all different types of stakeholders and participants. Communities of practice can meet via e-mail, Internet, face to face, or in other venues to share information, techniques, strategies, and experiences.

Grantee specific in-depth substantive assistance: Assistance will be provided to states and local communities in the development of major program components or in solving major technical problems requiring a substantial amount of in-depth assistance (on-site as necessary).

Knowledge Management: Constant assessment will be made of areas of technical assistance focus to ensure best practices of disseminated, issued briefs are developed as needed and expert relationships with technical assistance recipients result in long-term information and knowledge transfer.

Training: Curriculum development, design, and training will be made available via various media to target specified topics related to senior mobility across the range of service options. Training should be available for human service providers, transportation providers, and consumers. Technical assistance is to be consistent with the “5's A's of Senior Friendly Transportation” developed by the Beverly Foundation:⁴

⁴ From URL: http://www.beverlyfoundation.org/admin/files/stored_file/5As%20MobSnap.pdf.

The 5 A's of Senior Friendly Transportation
Availability | Transportation exists and is available when needed (e.g., transportation is at hand, evenings and/or weekends).
Accessibility | Transportation can be reached and used (e.g., bus stairs can be negotiated; bus seats are high enough; van comes to the door; bus stop is reachable).
Acceptability | Deals with standards relating to conditions such as cleanliness (e.g., the bus is not dirty); safety (e.g., bus stops are located in safe areas); and user-friendliness (e.g., transit operators are courteous and helpful).
Affordability | Deals with costs (e.g., fees are affordable; fees are comparable to or less than driving a car; vouchers or coupons help defray out-of-pocket expenses).
Adaptability | Transportation can be modified or adjusted to meet special needs (e.g., wheelchair can be accommodated; trip chaining is possible).
* The 5 A's of Senior Transportation were developed by the Beverly Foundation, 2001.

Thus, the results of technical assistance are targeted to enhance availability, accessibility, acceptability, affordability and adaptability for older adults. In order to achieve these goals, technical assistance will need to focus around one-stop access systems, streamlining eligibility, enhancing transportation coordination, breaking down regulatory/funding, sharing barriers and social marketing to get information out to local consumers.

Tasks

In the performance of this cooperative agreement, the grantee should accomplish the following tasks.

Task 1—Administration

• The grantee should meet with the project officer and task order monitor within ten (10) working days after issuance of the task order to discuss the objectives of the cooperative agreement and any related project. The work plan should incorporate the CCAM Action Plan and the GAO Study on Senior Mobility which can be found on the CCAM Web site at http://www.unitedweride.gov. The work plan should be submitted to the project officer within six (6) weeks of grant award.

• The grantee will hold regular meetings with the Director of NTACST to review the status of the project. Areas of concern are (1) accomplishments to date, (2) reviewing progress on tasks, including “user” plans for technical assistance to demonstration grantees, and (3) problems.

• The grantee will brief FTA, AoA, and other members of the CCAM semiannually on their technical assistance findings, key themes and results.

• The grantee will prepare benchmarking reports of NTACST activities on a semiannual basis. These benchmarking reports may include documentation of submitted quarterly and annual reports, as well as financial statements.

• The grantee will prepare a monthly NTACST activity report with an accompanying explanation for NTACST invoices, and submit it to the project officer.

• The NTACST should include a national steering committee to provide guidance and feedback throughout the life of the technical assistance center. Steering committee members should include participants from national organizations representing the aging provider network, public and private transportation, senior advocacy groups and consumers. The steering committee should participate in the review and development of products, materials, and information. The technical assistance center should host full committee meetings at least once every quarter, for a minimum of four meetings a year.

• The grantee will prepare a quarterly travel schedule of all upcoming NTACST staff speaking engagements, representation on committees, meetings, etc., and forward it prospectively to the project officer.

Task 2—Technical Assistance and Training

• Needs assessments and assistance plans. The NTACST will conduct a comprehensive assessment of technical assistance needs in the areas of older adult mobility in year one. Based on this information, the NTACST will formulate a plan in coordination with FTA, Administration on Aging (AoA) and other Federal partners for conducting technical assistance at the state and local levels in future years of funding. The grantee will work with local sites to develop individual technical assistance plans that outline specific needs, intended outcomes, plans for assistance, and evaluation components.

• Technical Assistance Strategies: The grantee will develop the following initiatives: Providing technical assistance to the fifty states, the District of Columbia, American Samoa, Central Northern Mariana Islands, Guam, Puerto Rico, and the Virgin Islands by:

a. Assisting FTA, AoA, and other Federally funded programs through at least twelve (12) site visits, telephone and/or electronic inquiries. Special consultants may be used and the grantee should have demonstrated expertise in maintaining adequate number of consultants.

b. Establishing state and local UWR coalitions. Analyze, assess and evaluate the value of these coalitions with the project officer.

c. Integrating a range of services including driving transition, pedestrian environments, fixed route transit, paratransit services, taxi programs, door through door or escort options, voucher models, and volunteer transportation programs into overall technical assistance.

d. Assisting local communities with the development of mobility management strategies and concepts that enhance transportation service options and access for older adults.

e. Assisting states and local communities in developing strategies for implementing consumer advocacy programs and addressing the needs of older adults from culturally diverse communities.

f. Assisting states and local communities with identification of intelligent transportation systems and other technologies that enhance transportation services for older adults.

g. Developing and implementing a quality performance process and benchmarking regarding technical assistance provided by NTACST; this is to include methods and strategies provided by the technical assistance team as it relates to successful funding. The grantee should integrate pertinent findings from the needs assessment and incorporate them into successful technical assistance strategies. The frequency of reports will be semi-annually, or as needed, but will not be more frequent than monthly.

h. Organizing a team approach, which might include personnel assuming responsibility for a number of states/and or regions. There should be an overall strategic approach to proactive technical assistance, which will include an emphasis on senior mobility and human service transportation coordination.

i. Organizing a systematic approach for at least twelve site visits per year. The grantee should develop a team approach to these site visits. The grantee should develop, with input from stakeholders (e.g., consumers, public and private transportation agencies, human service providers), agendas and criteria for these site visits as well as to brief Federal program staff. The grantee should develop briefing packets and initiate communication with the project officer prior to site visits in order to present a comprehensive description of the activity. The grantee should coordinate and maintain an integrated approach to all documentation and subsequent data collection regarding all site visits.

j. In cooperation with Indian Health Services (IHS), AoA, the project officer, and others as appropriate, assess, analyze and implement appropriate actions to integrate senior mobility and human service transportation in Tribal and non-Tribal entities serving Native American populations; the grantee should provide technical assistance to and collaborate with organizations that are actively engaged in improving the health and well-being of Native American elders.

k. Implement training on topics related to older adult transportation. Training should be considered for transportation providers, human service providers, and consumers. If necessary, curricula for specific training should be developed or modified for existing available materials.

Task 3—Demonstration Grants

• The grantee should award senior transportation demonstration grants to local transportation organizations, state agencies, units of government and non-profit organizations in areas related to senior transportation.

• The grantee should enlist a fair and equitable process for soliciting proposals and for project selection, which is representative of diverse geographical regions across the country.

• The grantee should submit a list of final recommended projects to the project officer for review and approval prior to the final award notification.

Task 4—Communication and Management Information Activities

• The grantee should work collaboratively to coordinate input, direction and advice regarding required Federal clearances on all publications regardless of the medium (e.g., print, video, electronic, etc). In the first year, the grantee should work with FTA and the NTACST's steering committee to develop a logo and design for future activities of the NTACST in the first year.

• In the first year, the grantee should develop at least three products. These products may be in the form of training curricula, video, CD-ROM or other format appropriate to the audience. The type and nature of the product will be determined in coordination with the project officer and the steering committee and should be based on the needs assessment from states and local communities. The grantee should make alternative formats available for all publications and products. The grantee should coordinate and participate in an overall product evaluation for all products developed with FTA funding. This evaluation should be done annually.

• In the first year, the grantee should develop at least five fact sheets on targeted topics related to senior transportation and senior mobility and human service transportation coordination. The grantee should work collaboratively with the project officer and the steering committee to identify specific topics.

• In the first year, the grantee should provide a minimum of five updates per month related to senior transportation to the UWR webmaster to be posted on the CCAM Web site http://www.unitedweride.gov. This includes products, Web links, and useful practices.

• The grantee should establish, maintain and facilitate NTACST electronic communications using a variety of mediums (e.g., print, video, electronic, Web-based, etc), which may include a Web site, bulletin board service, list serve, and selected internet focus groups for targeted topics.

• In the first year, all NTACST staff and/or contractual presentations at a local, state and national level are to be fully coordinated, with an ample timeline for discussion and approval, with the project officer. The grantee should plan for at least twelve (12) meetings annually that involve other than local travel. The grantee should plan for an additional fifteen (15) meetings annually in the Washington, DC area. The grantee should be both a presenter and an exhibitor during national, regional, and state meetings. In some cases, the grantee may also serve as a moderator or facilitator during targeted sessions.

• In the first year, the grantee should use an existing clearinghouse function to ensure the dissemination of information related to older adult transportation inclusive of a range of services: driving transition, pedestrian access, travel training, fixed route, paratransit, volunteer services, escort service, etc. Information should include existing products and materials as well as educational development information.

• In the first year, the grantee should develop a database of successful national public and private products that could potentially provide added value for senior mobility and human service transportation coordination. This includes video, curricula, and fact sheets. This database should include the title, description, and information on how to obtain the documents included in the database. The database will also include any evaluation information related to the product.

Task 5—Strategic Development in Partnerships, Community Involvement in Senior Transportation, and Senior Mobility and Human Service Transportation Coordination

• Senior mobility and human service transportation coordination is very dynamic and new areas of significance continually emerge. It is essential that the grantee respond appropriately and address these issues. Additionally, the grantee should provide expertise in strategic direction in senior mobility and human service transportation and senior mobility for community involvement and public awareness as follows:

a. The grantee should assess, analyze, and measure trends in the implementation of senior transportation activities on a state and regional basis. The grantee should provide, in cooperation with the project officer, an annual report on these activities.

b. The grantee should provide guidance and direction on establishing coalitions, which can be integrally involved in providing strategic direction for state and community involvement in human service transportation.

c. The grantee should serve as a resource of information on UWR strategic direction related to senior mobility as it relates to pending and enacted legislation at all governmental levels.

d. The grantee should enhance awareness by all stakeholders of funded senior mobility and related human service transportation activities regarding strategic direction of community involvement by integrating appropriate and relevant information on a monthly basis through a variety of communication mechanisms.

e. The grantee, in cooperation with Federal program staff, should assess, analyze and monitor key activities and milestones of national organizations and Federal agencies, interagency liaison groups, private industry, faith-based/community organizations, professional organizations and members of the National Consortium for Human Service Transportation related to UWR activities and subsequently determine educational resources that may be of value on a quarterly basis.

TASK 6—Collaboration with FTA and the Federal Coordinating Council on Access and Mobility

• The grantee in coordination with the project officer should provide technical assistance to the Coordinating Council on Access and Mobility (CCAM). This may include organizing monthly conference calls, attending relevant and value-added national meetings/conferences, providing input regarding infrastructure development of the CCAM activities related to senior transportation, formulating agendas and identifying speakers for CCAM and their executive council meetings.

• In coordination with the project officer, the grantee should develop efficient strategies and methods of establishing linkages with other Federally funded technical assistance centers in the areas of aging, pedestrian access, and the range of human service transportation options. In addition, the grantee will conduct a minimum of two trainings each year related to senior mobility for these technical assistance centers.

• The grantee should provide research-related technical assistance to project directors involved with senior mobility and human service transportation funded activities.

• The grantee should develop and maintain a comprehensive national coalition on senior transportation that is inclusive of advocacy organizations; public interest organizations; and provider organizations. This coalition should work in collaboration with the National Consortium on Human Service Transportation, a network of transportation professionals, human service professionals and policymakers at every level who understand the issues involved in the coordination of human services transportation and how coordination can be accomplished. The NTACST will develop a strategic plan for the coalition that includes education, outreach, technical assistance and advocacy oriented activities. The coalition can also focus on broader senior mobility and human service transportation initiatives that benefit the mobility of older adults. This coalition will serve to facilitate the development of state and local coalitions in all states and territories over the course of the cooperative agreement.

• Assist Federal program staff to conduct at least two special interest meetings per year on targeted topics selected in consultation with FTA, AoA, and the NTACST steering committee.

II. Award Information

FTA will fund one cooperative agreement for a five year award. Year one of the cooperative agreement is for two million dollars ($2,000,000). The anticipated notification date is the winter of 2006, with an anticipated starting date for the successful applicant of February 2006. Subsequent annual funding is authorized at one million dollars ($1,000,000) in the Safe, Accountable, Flexible, and Efficient Transportation Equity Act—A Legacy for Users (SAFETEA-LU); actual funding will be based on annual appropriations. FTA grantees with existing FTA projects are eligible to compete for this competitive cooperative agreement. The FTA will participate in activities by attending review meetings, commenting on technical reports, maintaining frequent contact with the project manager and approving key decisions and activities any redirecting activities if needed.

III. Eligibility Information

FTA is particularly interested in proposals for this cooperative agreement from national non-profit-organizations with demonstrated capacity in state and community transportation services for older adults in the following areas:

• Understanding concepts and strategies for developing integrated access, including single entry point and one-stop transportation systems;

• Understanding strategies for building a coordinated senior mobility and human service transportation program;

• Demonstrated success with interdisciplinary strategies in aging and transportation related work;

• Experience with the development and implementation of integrated transportation systems with health care and social support programs;

• Capacity for maintaining management information systems;

• Experience in implementation of consumer directed services;

• Experience and capacity in developing and utilizing volunteer programs and networks;

• Capacity and experience to build coordination and collaboration between public and private sector, as well as critical pathways which include linkages with intermediary organizations such as hospital discharge planners, private pay insurance, various social service and transportation system networks.

• Experience and knowledge of consumer involvement and consumer directed models in program planning and implementation;

• Capacity for developing and managing a technical assistance network using multiple types of intervention strategies (e.g., long distance, peer-to-peer, onsite, communities of practice, etc.);

• Capacity and experience for providing effective off-site technical assistance, including technical assistance by telephone and e-mail, moderated and unmoderated list-serves, Web-based seminars, topic-based conference calls, the internet (including he development of Web content), etc.;

• Knowledge of caregiver issues and long-term care home and community based services related to senior mobility;

• Understanding implementation of a range of transportation services including older driver, pedestrian access, fixed route, paratransit, assisted (door to door; hand to hand; escort) services, volunteer, taxi, and other types of transportation services provision;

• Capacity and experience for conducting face-to-face and Web-based training for consumers, human service/aging providers, and transportation agencies.

IV. Proposal Content

Proposals should be submitted in double-spaced format using times roman 12 point font. The application must contain the following components:

1. Cover sheet (1 page): Includes entity submitting proposal, principle investigator, title, and contact information (e.g., address, phone, fax, and e-mail). Name and contact information for the entity's key point of contact for all cooperative activities (if different from principle investigators).

2. Abstract (2 pages): Abstract should include background, purpose, methodology, intended outcomes, and plan for evaluation.

3. Detailed budget proposal and budget narrative.

4. Project narrative (not to exceed 100 pages): Project narrative should include the following information;

a. Staff qualifications, experience in providing technical assistance and implementing the other tasks outlined in the solicitation. The proposal should also include the proposed staff members' knowledge of issues related to seniors and senior transportation. One page biographical sketches for staff members should be included in the appendices section of the proposal;

b. Existing and future capacity of organization to address the issues outlined in the proposal and ability to implement tasks 1-6 outlined under Section I in this solicitation;

c. Methodology for addressing tasks 1-6 outlined under Section I in this solicitation. The proposal should also include objectives, activities, deliverables, milestones, timeline and intended outcomes for achieving the goals outlined in the scope for the first year;

d. Plan to work with stakeholders and build partnerships at the national, state, and local levels;

5. Plan for evaluation and data collection.

6. Supplemental materials and letters of support can be included in an appendices section that is beyond the 100 page limit. In addition to the full proposal, entities have the option to submit supplemental material such as: brochures, products, etc. These materials should be delivered to Bryna Helfer, Federal Transit Administration, Office of Grants Management, UWR Initiative, 400 7th Street, SW., Room 9114, Washington, DC 20590.

V. Application Review Information

Interdisciplinary review panels external to FTA will be convened to review each proposal. Project proposals will be evaluated based on the following criteria.

1. Staff qualifications, which includes experience in delivering technical assistance and training, knowledge of senior mobility issues, demonstrated process skills in assessment, strategic planning, facilitation, and other key areas associated with identified tasks. Entity should also address a plan for knowledge retention. (30%)

2. Existing capacity of the organization, which includes clearinghouse functions, web development and maintenance, technical assistance, training long distance and on-site intervention strategies, and other identified tasks. (30%)

3. Reasonability of proposed goals, objectives, strategies, timelines, and budget. (20%)

4. Plan to collaborate with stakeholders and establish effective partnerships to implement tasks. (10%)

5. Plan for evaluation and data collection. (10%)

VI. Award administration Information

The anticipated notification date for the award of this cooperative agreement is the winter of 2006, with an anticipated start date for the successful applicant is February 2006. The Federal Transit Administration's (FTA) Administrator will notify the successful entity. Following receipt of the FTA Administrator's notification letter, the successful entity will be required to submit their proposal through the FTA Transportation Electronic Award Management (TEAM) system website. FTA will manage the cooperative agreement through the TEAM system Web site. Before FTA may award Federal financial assistance through a Federal grant or cooperative agreement, the entity must submit all certifications and assurances pertaining to itself and its project as required by Federal laws and regulations.

These certifications and assurances must be submitted to FTA irrespective of whether the project is financed under the authority of 49 U.S.C. Chapter 53, or Title 23, United States Code, or another Federal statute. Since Federal fiscal year 1995, FTA has been consolidating the various certifications and assurances that may be required of its awardees and the projects into a single document published in the Federal Register. Fiscal year 2006 Annual List of Certifications and Assurances for FTA Grants and Cooperative Agreements and guidelines will be published in the Federal Register and posted on the FTA Web site at http://www.fta.dot.gov.

Jennifer L. Dorn,
Administrator.

[FR Doc. 05-22057 Filed 11-4-05; 8:45am]

BILLING CODE 4910-57-M